DEPARTMENT OF HEALTH AND HUMAN SERVICES

Administration for Children and Families

Office of Planning, Research, and Evaluation, Grant to the University of Georgia

AGENCY: Office of Planning, Research and Evaluation, ACF, DHHS.

ACTION: Award announcement.

SUMMARY: Notice is hereby given that a noncompetitive grant award is being made to the University of Georgia to conduct a study to identify rural counties in the Southern Black Belt experience persistent poverty and to examine their social, demographic, and economic conditions.

As a Congressional setaside, this one-year project is being funded noncompetitively. The university has several facilities and resources on campus for undertaking the feasibility study. The university also will rely upon several outside sources with specialized expertise to conduct various activities related to the project. The cost of this one-year project is $250,000.

FOR FURTHER INFORMATION CONTACT: Hossein Faris, Administration for Children and Families, Office of Planning, Research And Evaluation, 370 L'Enfant Promenade, SW., Washington, DC 20447, Phone: 202-205-4922.

Dated: March 22, 2002.
Howard Rolston,
Director, Office of Planning, Research, and Evaluation.

[FR Doc. 02-7906 Filed 4-1-02; 8:45 am]

BILLING CODE 4184-01-M